DEPARTMENT OF TRANSPORTATION

Federal Motor Carrier Safety Administration

[Docket Nos. FMCSA-2008-0362 and FMCSA-2006-26367]

Motor Carrier Safety Advisory Committee (MCSAC) and Medical Review Board (MRB) Meetings: Public Meetings

AGENCY: Federal Motor Carrier Safety Administration (FMCSA), DOT.

ACTION: Announcement of advisory committee public meetings.

SUMMARY: FMCSA announces a joint meeting of its Motor Carrier Safety Advisory Committee (MCSAC) and Medical Review Board (MRB) on Monday, October 24, 2016. Together, the MCSAC and MRB will receive an update on the Driver Health and Wellness Initiative, a non-regulatory public-private partnership of stakeholders to improve drivers' health, and a preview of its Web page. The MRB will report on its revised recommendations on obstructive sleep apnea (OSA) based on its evaluation of the comments from the joint Advance Notice of Proposed Rulemaking (ANPRM) that the Agency issued with the Federal Railroad Administration. Additionally, the MCSAC will discuss how the implementation of these recommendations may impact current and future populations of drivers. On October 25, the MCSAC will meet separately to complete its review of the Agency's regulatory guidance and the MRB will meet to discuss how to incorporate recently issued warnings from the Food and Drug Administration (FDA) on narcotics and benzodiazepines. The meetings are open to the public for their entirety.

DATES: The joint meeting will be held on Monday, October 24, 2016, from 9:15 a.m. to 5 p.m., Eastern Time (E.T.). On Tuesday, October 25, the MCSAC and MRB will meet separately. Copies of all task statements and an agenda for the entire meeting will be made available in advance of the meeting at http://mrb.fmcsa.dot.gov and http://mcsac.fmcsa.dot.gov.

ADDRESSES: The meetings will take place at the National Association of Homebuilders (NAHB), 1201 Fifteenth Street NW., Washington, DC 20005.

FOR FURTHER INFORMATION CONTACT: Ms. Shannon L. Watson, Senior Policy Advisor, Federal Motor Carrier Safety Administration, U.S. Department of Transportation, 1200 New Jersey Avenue SE., Washington, DC 20590, (202) 366-5221, mcsac@dot.gov.

Services for Individuals with Disabilities: For information on facilities or services for individuals with disabilities or to request special assistance at the meeting, contact Eran Segev at (617) 494-3174, eran.segev@dot.gov, by Wednesday, October 19.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The Moving Ahead for Progress in the 21st Century Act (MAP-21, Pub. L. 112-141) reauthorized the MCSAC through September 30, 2013, at which time its statutory authority expired, necessitating the establishment of MCSAC as a discretionary committee under FACA. Secretary Foxx established that effective September 30, 2013, through September 30, 2015. MCSAC provides advice and recommendations to the FMCSA Administrator on motor carrier safety programs and regulations, and operates in accordance with the Federal Advisory Committee Act (FACA, 5 U.S.C. App 2).

The MCSAC began considering Task 16-1, Review of Regulatory Guidance, at its June 2016 meeting to provide recommendations to the Agency concerning implementation of section 5203 of the FAST Act to: (1) Prioritize regulatory guidance that should be incorporated into the safety regulations to promote clear, consistent, and enforceable rules; (2) identify regulatory guidance that appears to be inconsistent with the intent of the safety regulations or makes enforcement of key safety requirements difficult; and (3) identify guidance that should remain in place.

Additionally, the MCSAC and MRB began considering Joint Task 15-3, on Driver Health and Wellness, at its joint meeting in September 2015. The task is to provide recommendations to the Agency on the structure, content, and methods for determining the effectiveness of a public-private partnership to promote commercial motor vehicle (CMV) driver wellness. To reach that goal, the MCSAC and MRB chairmen appointed a joint subcommittee that included members of both advisory committees and stakeholders.

MRB

Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA under the terms of its charter, filed November 25, 2013.

At its meeting in August 2016, the MRB began consideration of Task 16-1, which is to provide recommendations to the Agency on the disposition of comments from medical professionals and associations to the Agency's and the Federal Railroad Administration's (FRA) Advance Notice of Proposed Rulemaking (ANPRM) on safety-sensitive rail and commercial motor vehicle (CMV) drivers with moderate to severe Obstructive Sleep Apnea (OSA).

II. Meeting Participation

Oral comments from the public will be heard throughout the meeting, at the discretion of the MCSAC and MRB chairmen. Members of the public may submit written comments on the topics to be considered during the meeting by Wednesday, October 19, to Federal Docket Management System (FDMC) Docket Number FMCSA-2008-0362 for the MRB and FMCSA-2006-26367 for the MCSAC using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: October 7, 2016.
Larry W. Minor,
Associate Administrator for Policy.

[FR Doc. 2016-24927 Filed 10-13-16; 8:45 am]

BILLING CODE 4910-EX-P